ENVIRONMENTAL PROTECTION AGENCY

40 CFR Part 180

[EPA-HQ-OPP-2020-0419 and EPA-HQ-OPP-2021-0020; FRL-9482-01-OCSPP]

Fludioxonil; Pesticide Tolerances

AGENCY: Environmental Protection Agency (EPA).

ACTION: Final rule.

SUMMARY: This regulation establishes or amends tolerances for residues of fludioxonil in or on multiple crops that are referenced later in this document. The Interregional Project Number 4 (IR-4) and Syngenta Crop Protection, LLC requested these tolerances under the Federal Food, Drug, and Cosmetic Act (FFDCA).

DATES: This regulation is effective February 9, 2022. Objections and requests for hearings must be received on or before April 11, 2022, and must be filed in accordance with the instructions provided in 40 CFR part 178 (see also Unit I.C. of the SUPPLEMENTARY INFORMATION).

ADDRESSES: The dockets for this action, identified by docket identification (ID) numbers EPA-HQ-OPP-2020-0419 and EPA-HQ-OPP-2021-0020, are available online at https://www.regulations.gov or in-person at the Office of Pesticide Programs Regulatory Public Docket (OPP Docket) in the Environmental Protection Agency Docket Center (EPA/DC), West William Jefferson Clinton Bldg., Rm. 3334, 1301 Constitution Ave. NW, Washington, DC 20460-0001.

Due to the public health emergency, the EPA Docket Center (EPA/DC) and Reading Room is open to visitors by appointment only. For the latest status information on EPA/DC services, docket access, visit https://www.epa.gov/dockets.

FOR FURTHER INFORMATION CONTACT: Marietta Echeverria, Acting Director, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register's e-CFR site at https://www.ecfr.gov/current/title-40.

C. How can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID numbers EPA-HQ-OPP-2020-0419 and EPA-HQ-OPP-2021-0020 in the subject line on the first page of your submission. All objections and requests for a hearing must be in writing and must be received by the Hearing Clerk on or before April 11, 2022. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID numbers EPA-HQ-OPP-2020-0419 and EPA-HQ-OPP-2021-0020, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets.

II. Summary of Petitioned-For Tolerance

In the Federal Register of June 28, 2021 (86 FR 33922) (FRL-10025-08) and in the Federal Register of February 25, 2021 (86 FR 11488) (FRL-10020-47), EPA issued a document pursuant to FFDCA section 408(d)(3), 21 U.S.C. 346a(d)(3), announcing the filing of a pesticide petition (PP 0E8847) by IR-4, North Carolina State University, 1730 Varsity Drive, Venture IV, Suite 210, Raleigh, NC 27606. The February 25, 2021, notice erroneously identified Syngenta as the petitioner. The petition requested that 40 CFR 180.516 be amended by establishing tolerances for residues of fludioxonil, [4-(2, 2-difluoro-1,3-benzodioxol-4-yl)-1H-pyrrole-3-carbonitrile] in or on the raw agricultural commodities: Carrot, roots at 7 parts per million (ppm); Celtuce at 15 ppm; Cottonseed subgroup 20C at 0.05 ppm; Dragon fruit at 20 ppm; Durian at 20 ppm; Fennel, Florence, fresh leaves and stalk at 15 ppm; Jackfruit at 20 ppm; Leaf petiole vegetable subgroup 22B at 15 ppm; Leafy greens subgroup 4-16A at 30 ppm; Mangosteen at 5 ppm; Persimmon, Japanese at 5 ppm; Sunflower subgroup 20B at 0.01 ppm; Tropical and subtropical, small fruit, inedible peel, subgroup 24A at 20 ppm; Vegetable, legume, group 6, except bean, dry and bean, succulent at 0.01 ppm; Vegetable, root, except sugar beet, subgroup 1B, except carrot and ginseng at 0.75 ppm; and Vegetable, tuberous and corm, subgroup 1C, except yam, true, tuber at 6 ppm. The petition also requested to remove established tolerances for residues of fludioxonil, [4-(2, 2-difluoro-1,3- benzodioxol-4-yl)-1H-pyrrole-3- carbonitrile] in or on the raw agricultural commodities: Carrots at 7.0 ppm; Cotton, undelinted seed at 0.05 ppm; Dragon fruit at 1.0 ppm; Leaf petioles subgroup 4B at 15 ppm; Leafy greens subgroup 4A at 30 ppm; Longan at 20 ppm; Lychee at 20 ppm; Melon subgroup 9A at 0.03 ppm; Safflower, seed at 0.01 ppm; Spanish lime at 20 ppm; Sunflower, seed at 0.01 ppm; Vegetable, legume, group 6 at 0.01 ppm; Vegetable, root, except sugar beet, subgroup 1B at 0.75 ppm; and Vegetable, tuberous and corm, subgroup 1C at 6.0 ppm. That document referenced a summary of the petition prepared by Syngenta Crop Protection, the registrant, which is available in docket ID number EPA-HQ-OPP-2020-0419 at https://www.regulations.gov. There were no comments received in response to the notice of filing.

Also, in the Federal Register of February 25, 2021 (86 FR 11488) (FRL-10020-47) EPA issued a document pursuant to FFDCA section 408(d)(3), 21 U.S.C. 346a(d)(3), announcing the filing of a pesticide petition (PP 0F8858) by Syngenta Crop Protection, LLC, P.O. Box 18300, Greensboro, NC 27419. The petition requested that 40 CFR 180.516 be amended by establishing tolerances for residues of fludioxonil, [4-(2, 2-difluoro-1,3-benzodioxol-4-yl)-1H-pyrrole-3-carbonitrile] in or on the raw agricultural commodities tree nut crop group 14-12, except pistachios at 0.2 ppm and almond hulls at 15 ppm. That document referenced a summary of the petition prepared by Syngenta Crop Protection, the registrant, which is available in docket ID number EPA-HQ-OPP-2021-0020 at https://www.regulations.gov. There were no comments received in response to the notice of filing.

Based upon review of the data supporting the petition, EPA is establishing one tolerance at a different level than petitioned for, has modified the nut tolerances, and has modified some of the commodity definitions. A discussion of these modifications can be found in unit IV.C.

III. Aggregate Risk Assessment and Determination of Safety

FFDCA Section 408(b)(2)(A)(i) allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . .”

Consistent with FFDCA section 408(b)(2)(D), and the factors specified in FFDCA section 408(b)(2)(D), EPA has reviewed the available scientific data and other relevant information in support of this action. EPA has sufficient data to assess the hazards of and to make a determination on aggregate exposure for fludioxonil including exposure resulting from the tolerance established by this action. EPA's assessment of exposures and risks associated with fludioxonil follows.

In an effort to streamline its publications in the Federal Register, EPA is not reprinting sections that repeat what has been previously published for tolerance rulemaking of the same pesticide chemical. Where scientific information concerning a particular chemical remains unchanged, the content of those sections would not vary between tolerance rulemaking and republishing the same sections is unnecessary. EPA considers referral back to those sections as sufficient to provide an explanation of the information EPA considered in making its safety determination for the new rulemaking.

EPA has previously published a number of tolerance rulemakings for fludioxonil in which EPA concluded, based on the available information, that there is a reasonable certainty that no harm would result from aggregate exposure to fludioxonil and established tolerances for residues of that chemical. EPA is incorporating previously published sections from those rulemakings as described further in this rulemaking, as they remain unchanged.

Toxicological profile. For a discussion of the Toxicological Profile of fludioxonil, see Unit III.A. of the November 6, 2018, final rulemaking (83 FR 55491) (FRL-9982-75).

Toxicological points of departure/Levels of concern. For a summary of the Toxicological Points of Departure/Levels of Concern for fludioxonil used for human risk assessment, please reference Unit III.B. of the August 14, 2015, rulemaking (80 FR 48743) (FRL-9931-06).

Exposure assessment. Much of the exposure assessment remains the same although updates have occurred to accommodate exposures from the petitioned-for tolerances. These updates are discussed in this section; for a description of the rest of the EPA approach to and assumptions for the exposure assessment, please reference Unit III.C. of the November 6, 2018, rulemaking.

EPA's dietary exposure assessments have been updated to include the additional exposure from the new uses of fludioxonil on the crops and the crop group conversions and expansions requested in these actions. The dietary exposure assessment used the same assumptions as the November 6, 2018, final rule, including tolerance level residues and 100 percent crop treated (PCT).

Drinking water exposure. The new uses do not result in an increase in the estimated residue levels in drinking water, so the estimated drinking water concentrations used in 2018 final rule are the same as those used in this assessment.

Non-occupational exposure. The assessment used the same assumptions as the November 6, 2018, final rule. The residential exposures used in the aggregate assessment are inhalation exposures from handlers applying paints with airless sprayers for adults and incidental oral exposures (hand-to-mouth) from post-application exposure to outdoor treated turf for children 1 to <2 years old.

Cumulative exposure. Unlike other pesticides for which EPA has followed a cumulative risk approach based on a common mechanism of toxicity, EPA has not made a common mechanism of toxicity finding as to fludioxonil and any other substances and fludioxonil does not appear to produce a toxic metabolite produced by other substances. For the purposes of this tolerance action, therefore, EPA has not assumed that fludioxonil has a common mechanism of toxicity with other substances.

Safety factor for infants and children. EPA continues to conclude that there are reliable data to support the reduction of the Food Quality Protection Act (FQPA) safety factor. See Unit III.D. of the November 6, 2018, rulemaking for a discussion of the Agency's rationale for that determination.

Aggregate risks and determination of safety. EPA determines whether acute and chronic dietary pesticide exposures are safe by comparing aggregate exposure estimates to the acute population adjusted dose (aPAD) and chronic population adjusted dose (cPAD). Short-, intermediate-, and chronic-term risks are evaluated by comparing the estimated aggregate food, water, and residential exposure to the appropriate points of departure to ensure that an adequate margin of exposure (MOE) exists. For linear cancer risks, EPA calculates the lifetime probability of acquiring cancer given the estimated aggregate exposure.

An acute dietary exposure assessment was not performed as there were no appropriate toxicological effects attributable to a single exposure (dose) observed in available oral toxicity studies, including maternal toxicity in the developmental toxicity studies. Fludioxonil is not expected to pose an acute risk. Chronic dietary risks are below the Agency's level of concern of 100% of the cPAD: They are 52% of the cPAD for children 1 to 2 years old, the group with the highest exposure. EPA has concluded the combined short-term food, water, and residential exposures result in margins of exposure above the level of concern of 100 for all scenarios assessed and are not of concern. Intermediate- and long-term aggregate risk assessments were not performed because there are no registered or proposed uses of fludioxonil that result in intermediate- or long-term residential exposures. A cancer dietary exposure and risk assessment was not conducted for fludioxonil as it is a Group D chemical—not classifiable as to human carcinogenicity.

Therefore, based on the risk assessments and information described above, EPA concludes there is a reasonable certainty that no harm will result to the general population, or to infants and children, from aggregate exposure to fludioxonil residues. More detailed information on this action can be found in the document titled “Fludioxonil. Human Health Risk Assessment for Section 3 Registration for Crop Group Conversions/Expansions for Cottonseed subgroup 20C, Fennel, Florence, Fresh Leaves and Stalk; Leaf Petiole Vegetable Subgroup 22B; Leafy Greens Subgroup 4-16A; Sunflower Subgroup 20B, Tropical and Subtropical, Small Fruit, Inedible Peel, Subgroup 24A and to Establish an Individual Tolerance for Residues in/on Tree Nuts Crop Group 14-12, Dragon Fruit, Durian, Japanese Persimmon, Jackfruit, and Mangosteen.” (hereafter “the Fludioxonil Human Health Risk Assessment”) in docket ID numbers EPA-HQ-OPP-2020-0419 and EPA-HQ-OPP-2021-0020.

IV. Other Considerations

A. Analytical Enforcement Methodology

For a discussion of the available analytical enforcement method, see Unit IV.A. of the November 6, 2018, rulemaking.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4).

The U.S. tolerances for cottonseed subgroup 20C; leaf petiole vegetable subgroup 22B; and persimmon, Japanese are harmonized with Codex MRLs. There are no Codex MRLs for many of the commodities included in this action, including almond; almond, hulls; celtuce; dragon fruit; durian; jackfruit; mangosteen; pecan; sugar apple; sunflower subgroup 20B; and tropical and subtropical, small fruit, inedible peel, subgroup 24A.

Several U.S. tolerances are higher than the corresponding Codex MRLs. The following U.S. tolerances cannot be harmonized with Codex because U.S. growers could have violative residues despite legal use of fludioxonil: Carrot, roots at 7 ppm (Codex MRL is 1 ppm) and fennel, Florence, fresh leaves and stalk at 15 ppm (Codex MRL is 9 ppm).

The U.S. tolerance for vegetable, legume group 6 at 0.01 ppm reflects seed treatment use. It is not appropriate to harmonize with the significantly higher Codex MRL of 0.6 ppm because the tolerance would not be effective for determining misuse. For a few other U.S. subgroup tolerances, EPA is not harmonizing with relevant Codex MRLs, which are established for individual commodities and vary widely among those commodities. The available representative commodity data support the crop subgroup and EPA's general approach is to establish a crop group or subgroup tolerance when supported by available representative commodity data, rather than break up the group or subgroup for harmonization purposes. The U.S. tolerance for leafy greens subgroup 4-16A at 30 ppm is not harmonized with all relevant Codex MRLs for commodities in that group (e.g., head lettuce at 10 ppm and leaf lettuce at 40 ppm), although it is harmonized with the tolerance for spinach. The registrant requested that the leafy greens subgroup 4-16A tolerance be harmonized with the Canadian MRL of 30 ppm because Canada is a major trading partner with the U.S. for these crops. For vegetable, root, except sugar beet, subgroup 1B, the U.S. tolerance is harmonized with the Canadian MRL at 0.75 ppm, rather than splitting the group and harmonizing individually with the Codex MRLs of 4 ppm for ginseng, root and 0.3 ppm for radish, root. Finally, the U.S. tolerance for vegetable, tuberous and corm, subgroup 1C is harmonized with the Canadian MRL at 6 ppm, rather than splitting the group and harmonizing individually with the Codex MRLs of 5 ppm for potato and 10 ppm for sweet potato. Finally, EPA is not harmonizing the U.S. tolerance for vegetable, cucurbit, group 9 with the Codex MRL of 0.5 ppm because the registrant requested that EPA harmonize this tolerance group with the Canadian MRL of 0.45 ppm instead because Canada is a major trading partner for these crops.

C. Revisions to Petitioned-For Tolerances

One petitioner requested an exception for carrot and ginseng from vegetable, root, except sugar beet, subgroup 1B; and yam, true, tuber from vegetable, tuberous and corm, subgroup 1C. EPA is not excepting carrot and yam from their respective subgroups because representative crops may not be excepted from a crop subgroup under 40 CFR 180.40(h). Although an individual tolerance has been established for ginseng, EPA does not believe it is necessary to exclude ginseng from the vegetable, root, except sugar beet, subgroup 1B tolerance, as residues will be enforced according to the higher tolerance. EPA is adjusting the tolerance level for vegetable, tuberous and corm, subgroup 1C to be consistent with Agency rounding class practice. For tree nut crop group 14-12, maximum fludioxonil residues in representative crops were not within a factor of five of each other. Based on the residue data, the recommended tolerance for residues in/on almond is 0.2 ppm and the recommended tolerance for residues in/on pecan is 0.01 ppm. In those circumstances, the Agency will normally establish individual crop tolerances, if supported by the available residue data. EPA has determined that the available data supports individual nut tolerance levels, based on translation from the representative commodities to the various nut commodities as specified in the 2010 EPA analysis of IR-4's petition to amend crop group. See U.S. EPA, Memorandum re: “Crop Grouping—Part IX: Analysis of the USDA IR-4 Petition to Amend the Crop Group Regulation 40 CFR 180.41(c)(16) and Commodity Definitions (40 CFR 180.1(g)) Related to the Crop Group 14 Tree Nuts. Part I. Analysis.” at 134-136 (Sept. 30, 2010). Specifically, EPA is establishing tolerances of 0.2 ppm for the nut commodities that identified almond as the representative commodity and tolerances of 0.01 ppm for the nut commodities that identified pecan as the representative commodity.

V. Conclusion

Therefore, tolerances are established for residues of fludioxonil in or on African Tree Nut at 0.01 ppm; Almond at 0.2 ppm; Almond, hulls at 15 ppm; Beechnut at 0.2 ppm; Brazil nut at 0.01 ppm; Brazilian pine at 0.2 ppm; Bunya at 0.2 ppm; Bur oak at 0.01 ppm; Butternut at 0.01 ppm; Cajou at 0.01 ppm; Candlenut at 0.2 ppm; Carrot, roots at 7 ppm; Cashew at 0.01 ppm; Celtuce at 15 ppm; Chestnut at 0.2 ppm; Chinquapin at 0.2 ppm; Coconut at 0.01 ppm; Coquito nut at 0.01 ppm; Cottonseed subgroup 20C at 0.05 ppm; Dika nut at 0.01 ppm; Durian at 20 ppm; Fennel, Florence, fresh leaves and stalk at 15 ppm; Ginkgo at 0.2 ppm; Guiana chestnut at 0.01 ppm; Hazelnut at 0.01 ppm; Heartnut at 0.01 ppm; Hickory nut at 0.01 ppm; Jackfruit at 20 ppm; Japanese horse-chestnut at 0.01 ppm; Leaf petiole vegetable subgroup 22B at 15 ppm; Leafy greens subgroup 4-16A at 30 ppm; Macadamia nut at 0.01 ppm; Mangosteen at 5 ppm; Mongongo nut at 0.01 ppm; Monkey puzzle at 0.2 ppm; Monkey-pot at 0.01 ppm; Okari nut at 0.2 ppm; Pachira nut at 0.01 ppm; Peach palm nut at 0.2 ppm; Pecan at 0.01 ppm; Pequi at 0.2 ppm; Persimmon, Japanese at 5 ppm; Pili nut at 0.2 ppm; Pine nut at 0.2 ppm; Sapucaia nut at 0.01 ppm; Sunflower subgroup 20B at 0.01 ppm; Tropical almond at 0.2 ppm; Tropical and subtropical, small fruit, inedible peel, subgroup 24A at 20 ppm; Walnut, black at 0.01 ppm; Walnut, English at 0.01 ppm; and Yellowhorn at 0.01 ppm.

EPA is amending the tolerance for Dragon fruit from 1.0 ppm to 20 ppm, the tolerance for Pistachio from 0.10 ppm to 0.1 ppm, and the tolerance for Vegetable, tuberous and corm, subgroup 1C from 6.0 ppm to 6 ppm. The commodity definition for Vegetable, legume, group 6 is amended to Vegetable, legume, group 6, except bean while maintaining the tolerance at 0.01 ppm.

Additionally, the following tolerances are removed as unnecessary due to the establishment of the above tolerances: Carrots at 7.0 ppm; Cotton, undelinted seed at 0.05 ppm; Leaf petioles subgroup 4B at 15 ppm; Leafy greens subgroup 4A at 30 ppm; Longan at 20 ppm; Lychee at 20 ppm; Safflower, seed at 0.01 ppm; Spanish lime at 20 ppm; and Sunflower, seed at 0.01 ppm. In addition, EPA is removing the tolerance for the Melon subgroup, since it is unnecessary due to the tolerance for cucurbit vegetables, group 9 at 0.45 ppm.

VI. Statutory and Executive Order Reviews

This action establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001), or to Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal Governments, on the relationship between the National Government and the States or Tribal Governments, or on the distribution of power and responsibilities among the various levels of government or between the Federal Government and Indian Tribes. Thus, the Agency has determined that Executive Order 13132, entitled “Federalism” (64 FR 43255, August 10, 1999) and Executive Order 13175, entitled “Consultation and Coordination with Indian Tribal Governments” (65 FR 67249, November 9, 2000) do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides, and pests, Reporting and recordkeeping requirements.

Dated: February 2, 2022.
Marietta Echeverria,
Acting Director, Registration Division, Office of Pesticide Programs.

Therefore, for the reasons stated in the preamble, EPA is amending 40 CFR chapter 1 as follows:

PART 180—TOLERANCES AND EXEMPTIONS FOR PESTICIDE CHEMICAL RESIDUES IN FOOD

1. The authority citation for part 180 continues to read as follows:

Authority: 21 U.S.C. 321(q), 346a and 371.

2. In § 180.516, amend the table in paragraph (a) (1) by:

a. Adding in alphabetical order the entries “African Tree Nut”; “Almond”; “Almond, hulls”; “Beechnut”; “Brazil nut”; “Brazilian pine”; “Bunya”; “Bur oak”; “Butternut”; “Cajou”; and “Candlenut”.

b. Removing the entry for “Carrots”.

c. Adding in alphabetical order the entries “Carrot, roots”; “Cashew”; “Celtuce”; “Chestnut”; “Chinquapin”; “Coconut”; “Coquito nut”; and “Cottonseed subgroup 20C”.

d. Removing the entry for “Cotton, undelinted seed”.

e. Adding in alphabetical order the entry “Dika nut”.

f. Revising the entry for ““Dragon fruit”.

g. Adding in alphabetical order the entries “Durian”; “Fennel, Florence, fresh leaves and stalk”; “Ginkgo”; “Guiana chestnut”; “Hazelnut”; “Heartnut”; “Hickory nut”; “Jackfruit”; and “Japanese horse-chestnut”.

h. Removing the entry for “Leaf petioles subgroup 4B”.

i. Adding in alphabetical order the entry “Leaf petiole vegetable subgroup 22B”.

j. Removing the entry for “Leafy greens subgroup 4A”.

k. Adding in alphabetical order the entry “Leafy greens subgroup 4-16A”.

l. Removing the entries for “Longan”; and “Lychee”.

m. Adding in alphabetical order the entries “Macadamia nut”; and “Mangosteen”.

n. Removing the entry for “Melon subgroup 9A”.

o. Adding in alphabetical order the entries “Mongongo nut”; “Monkey puzzle”; “Monkey-pot”; “Okari nut”; “Pachira nut”; “Peach palm nut”; “Pecan”; “Pequi”; “Persimmon, Japanese”; “Pili nut”; and “Pine nut”.

p. Revising the entry for “Pistachio”.

q. Removing the entry for “Safflower, seed”.

r. Adding in alphabetical order the entry “Sapucaia nut”.

s. Removing the entries for “Spanish lime”; and “Sunflower, seed”.

t. Adding in alphabetical order the entries “Sunflower subgroup 20B”; “Tropical almond”; and “Tropical and subtropical, small fruit, inedible peel, subgroup 24A”.

u. Removing the entry for “Vegetable, legume, group 6”.

v. Adding in alphabetical order the entry “Vegetable, legume, group 6, except bean”.

w. Revising the entry for “Vegetable, tuberous and corm, subgroup 1C”.

x. Adding in alphabetical order the entries “Walnut, black”; “Walnut, English”; and “Yellowhorn”.

The additions and revisions read as follows:

§ 180.516 Fludioxonil; tolerances for residues.

(a) * * *

(1) * * *

Table 1 to Paragraph (a)(1)
Commodity | Parts per million
* * * * *
African Tree Nut | 0.01
Almond | 0.2
Almond, hulls | 15
* * * * *
Beechnut | 0.2
* * * * *
Brazil nut | 0.01
Brazilian pine | 0.2
Bunya | 0.2
Bur oak | 0.01
* * * * *
Butternut | 0.01
Cajou | 0.01
Candlenut | 0.2
* * * * *
Carrot, roots | 7
Cashew | 0.01
Celtuce | 15
* * * * *
Chestnut | 0.2
Chinquapin | 0.2
* * * * *
Coconut | 0.01
Coquito nut | 0.01
* * * * *
Cottonseed subgroup 20C | 0.05
* * * * *
Dika nut | 0.01
Dragon fruit | 20
Durian | 20
* * * * *
Fennel, Florence, fresh leaves and stalk | 15
* * * * *
Ginkgo | 0.2
* * * * *
Guiana chestnut | 0.01
Hazelnut | 0.01
Heartnut | 0.01
* * * * *
Hickory nut | 0.01
* * * * *
Jackfruit | 20
Japanese horse-chestnut | 0.01
* * * * *
Leaf petiole vegetable subgroup 22B | 15
Leafy greens subgroup 4-16A | 30
Macadamia nut | 0.01
* * * * *
Mangosteen | 5
Mongongo nut | 0.01
Monkey puzzle | 0.2
Monkey-pot | 0.01
Okari nut | 0.2
* * * * *
Pachira nut | 0.01
* * * * *
Peach palm nut | 0.2
* * * * *
Pecan | 0.01
Pequi | 0.2
Persimmon, Japanese | 5
Pili nut | 0.2
Pine nut | 0.2
* * * * *
Pistachio | 0.1
* * * * *
Sapucaia nut | 0.01
* * * * *
Sunflower subgroup 20B | 0.01
* * * * *
Tropical almond | 0.2
Tropical and subtropical, small fruit, inedible peel, subgroup 24A | 20
* * * * *
Vegetable, legume, group 6, except bean | 0.01
* * * * *
Vegetable, tuberous and corm, subgroup 1C | 6
Walnut, black | 0.01
Walnut, English | 0.01
* * * * *
Yellowhorn | 0.01
¹ There are no U.S. registrations as of July 28, 2021.

* * * * *

[FR Doc. 2022-02560 Filed 2-8-22; 8:45 am]

BILLING CODE 6560-50-P